DEPARTMENT OF THE TREASURY

Internal Revenue Service

Proposed Collection; Requesting Comments on the Intake/Interview & Quality Review Sheets

AGENCY: Internal Revenue Service (IRS), Treasury.

ACTION: Notice and request for comments.

SUMMARY: The Internal Revenue Service, as part of its continuing effort to reduce paperwork and respondent burden, invites the general public and other Federal agencies to take this opportunity to comment on proposed and/or continuing information collections, as required by the Paperwork Reduction Act of 1995. The IRS is soliciting comments concerning Form 13614-C series and Form 13614-NR, Intake/Interview & Quality Review Sheet.

DATES: Written comments should be received on or before July 29, 2024 to be assured of consideration.

ADDRESSES: Direct all written comments to Andres Garcia, Internal Revenue Service, Room 6526, 1111 Constitution Avenue NW, Washington, DC 20224, or by email to pra.comments@irs.gov. Include OMB Control Number 1545-1964 or form number 13614-C and form 13614-NR in the Subject line of the message.

FOR FURTHER INFORMATION CONTACT: Requests for additional information or copies of this collection should be directed to Sara Covington, (202) 317-5744, at Internal Revenue Service, Room 6526, 1111 Constitution Avenue NW, Washington, DC 20224, or through the internet at sara.l.covington@irs.gov.

SUPPLEMENTARY INFORMATION: The IRS is currently seeking comments concerning the following information collection tools, reporting, and record-keeping requirements:

Title: Intake/Interview & Quality Review Sheet.

OMB Number: 1545-1964.

Form Numbers: 13614-C, 13614-C (AR), 13614-C (BN), 13614-C (BR), 13614-C (DE), 13614-C (FA), 13614-C (FR), 13614-C (GUJ), 13614-C (HT), 13614-C (IT) 13614-C (JA), 13614-C (KM), 13614-C (KO), 13614-C (LP), 13614-C (PA), 13614-C (PL), 13614-C (PT), 13614-C (RU), 13614-C (SO), 13614-C (SP), 13614-C (TL), 13614-C (UR), 13614-C (VIE), 13614-C (ZH-S) 13614-C (ZH-T), and 13614-NR.

Abstract: The Form 13614-C series and Form 13614-NR contains a standardized list of required intake questions to guide volunteers in the Tax Counseling for the Elderly (TCE) and Volunteer Income Tax Assistance (VITA) programs in asking taxpayers basic questions about themselves. The form provides the volunteer with structured and consistent information to accurately prepare the taxpayer's return.

Current Actions: Form 13614-C and Form 13614-NR was redesigned and updated to meet OMB request on Race/Ethnicity. Changes to the burden estimates are due to the most current filing data.

Type of Review: Extension of a currently approved collection.

Affected Public: Individuals or households.

Form 13614-C:

Estimated Number of Responses: 2,561,781.

Estimated Time per Respondent: 10 minutes.

Estimated Total Annual Burden Hours: 426,964.

Form 13614-NR:

Estimated Number of Responses: 15,000.

Estimated Time per Respondent: 10 minutes.

Estimated Total Annual Burden Hours: 2,500.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: May 22, 2024.
Sara L Covington,
IRS Tax Analyst.

[FR Doc. 2024-11603 Filed 5-24-24; 8:45 am]

BILLING CODE 4830-01-P